DEPARTMENT OF DEFENSE

Department of the Army; Corps of Engineers

Intent To Prepare a Draft Supplement to the Final Environmental Impact Statement for the Indian River Lagoon South Project

AGENCY: Department of the Army, U.S. Army Corps of Engineers, DoD.

ACTION: Notice of intent.

SUMMARY: The U.S. Army Corps of Engineers (Corps), Jacksonville District, intends to prepare an integrated Project Implementation Report/Draft Supplement to the Final Environmental Impact Statement (PIR/DSFEIS) for the Central and Southern Florida (C&SF) Project, Indian River Lagoon—South Project. On October 11, 2002 a notice of availability was published in the Federal Register (67 FR 63421) for the C&SF Project, Indian River Lagoon—South Feasibility Study and Integrated Final Environmental Impact Statement. The PIR/DSFEIS is being prepared to address the requirements of the Water Resources Development Act of 2000 related to the Comprehensive Everglades Restoration Plan that were not addressed in the Feasibility Report and the FEIS. These requirements involve determination of water to be reserved for the natural system, savings clause, level of service for flood protection, the draft operations and monitoring plan and the ecological and water quality monitoring plan. The PIR/DSFEIS will also address a design refinement to the recommended plan identified during the Pre-construction Engineering and Design Phase.

FOR FURTHER INFORMATION CONTACT: Mr. Michael Dupes, U.S. Army Corps of Engineers, Planning Division, Environmental Branch, P.O. Box 4970, Jacksonville, FL 32232-0019, by e-mail michael.dupes@saj02.usace.army.mil, or by telephone at 904-232-1689.

SUPPLEMENTARY INFORMATION: a. Study Area: The study area remains the same as originally described in the Feasibility Report and FEIS.

b. Project Scope: The scope of the project remains the same as described in the Feasibility Report and FEIS.

c. Public Involvement: A public workshop will be conducted to notify the public of the WRDA 2000 requirements and of the change to the recommended plan. The exact location, date, and time of the workshop will be announced in public notices and local newspapers and on the Everglades Restoration Web site at fnl; http://www.evergladesplan.org.

d. SEIS Preparation: The integrated Project Implementation Report, including the draft SEIS is currently scheduled for publication in late 2003 or early 2004.

Dated: September 16, 2003.
James C. Duck,
Chief, Planning Division.

[FR Doc. 03-24613 Filed 9-26-03; 8:45 am]

BILLING CODE 3710-AJ-M